DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: National Flood Insurance Program Policy Forms.

OMB Number: 1660-0006.

Abstract: FEMA will use the National Flood Insurance Program Policy Forms to collect information needed to issue and to accommodate the changing insurance needs of policyholders. Policies are marketed through the facilities of licensed insurance agents or brokers in various States. Applications from agents or brokers are forwarded to a servicing company designated as fiscal agent by Federal Insurance Administration. Upon receipt and examination of applications and required premium, servicing companies will issue appropriate Federal flood insurance policies.

Affected Public: Individuals or households, Business or other for-profit, Not-for-profit institutions, Farms, and State, local, or tribal government.

Number of Respondents: 228,400.¹

Estimated Time per Respondent: 8.52 hours.

Estimated Total Annual Burden Hours: 22,300 hours.²

Frequency of Response: On occasion.

¹ The burden estimates and number of respondents has changed since publication of the 60-day Federal Register notice dated February 14, 2006. The total number of respondents has decreased from 254,100 to 228,400 (−25,700).

² The burden hours for this information collection have decreased from 25,125 to 22,300 (−2,825) estimated burden hours. These changes are due to a program revaluation of applicants who bought, renewed, endorsed (changed) or cancelled NFIP policies.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before May 15, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: April 5, 2006.
Deborah Moradi,
Acting Branch Chief, Information Resources Management Branch, Information Technology Services Division.

[FR Doc. E6-5537 Filed 4-13-06; 8:45 am]

BILLING CODE 9110-11-P